DEPARTMENT OF DEFENSE

[Docket ID: DoD-2020-OS-0103]

Submission for OMB Review; Comment Request

AGENCY: Office of the Under Secretary of Defense for Personnel and Readiness, Department of Defense (DoD).

ACTION: 30-Day information collection notice.

SUMMARY: The DoD has submitted to OMB for clearance the following proposal for collection of information under the provisions of the Paperwork Reduction Act.

DATES: Consideration will be given to all comments received by June 17, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION: Title; Associated Form; and OMB Number: Application for Department of Defense (DoD) Voluntary Education Partnership Memorandum of Understanding (MOU); DD Form 3115; OMB Control Number 0704-XXXX.

Type of Request: New.

Number of Respondents: 2,616.

Responses per Respondent: 1.

Annual Responses: 2,616.

Average Burden per Response: 6 hours.

Annual Burden Hours: 15,696.

Needs and Uses: This information collection will help to enhance the DoD's ability to improve Service member and veteran education experiences and ensure there is applicable and relevant information, as well as streamlined-tools to aid them in selecting an education institution that best meets their respective needs. The data culled from this information collection will standardize data/information provided to Service members and veterans to help them understand the total cost of educational programs.

Affected Public: Individuals or households.

Frequency: On occasion.

Respondent's Obligation: Voluntary.

OMB Desk Officer: Ms. Jasmeet Seehra

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: May 13, 2021.
Kayyonne T. Marston,
Alternate OSD Federal Register Liaison Officer, Department of Defense.

[FR Doc. 2021-10459 Filed 5-17-21; 8:45 am]

BILLING CODE 5001-06-P